DEPARTMENT OF COMMERCE

Foreign-Trade Zones Board

[B-03-2018]

Foreign-Trade Zone (FTZ) 40—Cleveland, Ohio Authorization of Production Activity; Swagelok Company; (Valve Component Parts); Solon, Willoughby Hills, Highland Heights, and Strongsville, Ohio

On December 26, 2017, the Cleveland-Cuyahoga County Port Authority, grantee of FTZ 40, submitted a notification of proposed production activity to the FTZ Board on behalf of Swagelok Company, within Subzone 40I, in Solon, Willoughby Hills, Highland Heights, and Strongsville, Ohio.

The notification was processed in accordance with the regulations of the FTZ Board (15 CFR part 400), including notice in the Federal Register inviting public comment (83 FR 1607-1608, January 12, 2018). On April 25, 2018, the applicant was notified of the FTZ Board's decision that no further review of the activity is warranted at this time. The production activity described in the notification was authorized, subject to the FTZ Act and the FTZ Board's regulations, including Section 400.14.

Dated: April 25, 2018.
Andrew McGilvray,
Executive Secretary.

[FR Doc. 2018-09154 Filed 4-30-18; 8:45 am]

BILLING CODE 3510-DS-P